FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 018442F.

Name: AAC Perishables Logistics, Inc.

Address: 6300 NW 97th Avenue, Miami, FL 33178.

Date Revoked: December 12, 2006.

Reason: Failed to maintain a valid bond.

License Number: 008093N.

Name: American Freight International Lines Inc.

Address: 640 Dowd Avenue, Elizabeth, NJ 07201.

Date Revoked: January 31, 2007.

Reason: Surrendered license voluntarily.

License Number: 019355N

Name: Abad Air, Inc.

Address: 10411 NW 28th Street, Suite C-101, Doral, FL 33172

Date Revoked: December 8, 2006.

Reason: Failed to maintain a valid bond.

License Number: 000602F

Name: Buchholz and Kuttruff, Inc.

Address: 2640 Canal Street, New Orleans, LA 70119

Date Revoked: January 19, 2007.

Reason: Failed to maintain a valid bond.

License Number: 013843N.

Name: DCS Line, Inc.

Address: 2396 East Pacifica Place, Ste. 230, Rancho Dominguez, CA 90220

Date Revoked: December 16, 2006.

Reason: Failed to maintain a valid bond.

License Number: 019495N.

Name: DS Logistics, Inc.

Address: 230-79 International Airport Center Blvd., Suite 245, Jamaica, NY 11413

Date Revoked: January 10, 2007.

Reason: Failed to maintain a valid bond.

License Number: 017126N.

Name: Daily Freight Cargo, Corp.

Address: 8426 NW 70th Street, Miami, FL 33166.

Date Revoked: January 19, 2007.

Reason: Failed to maintain a valid bond.

License Number: 016860F.

Name: Encompass Overseas Shipping, Inc. dba Hollywood Export Forwarding Co.

Address: 1601 N. Grower Street, Ste. 207, Hollywood, CA 90028.

Date Revoked: December 21, 2006.

Reason: Failed to maintain a valid bond.

License Number: 017861N.

Name: Fashion Container Line LLC.

Address: 800 Federal Blvd., Carteret, NJ 07008.

Date Revoked: February 5, 2007.

Reason: Surrendered license voluntarily.

License Number: 013657N.

Name: GFC Intermodal Container Line, Inc.

Address: 8915 So. La Cienega Blvd., Unit E, Inglewood, CA 90301.

Date Revoked: February 4, 2007.

Reason: Failed to maintain a valid bond.

License Number: 019846N.

Name: Gunhill Shipping & Receiving Headquarters, Inc.

Address: 1444 East Gunhill Road, Bronx, NY 10469.

Date Revoked: January 10, 2007.

Reason: Failed to maintain a valid bond.

License Number: 017381NF.

Name: HPK Logistics (USA) Inc.

Address: 18042 Cortney Court, 2nd Floor, City of Industry, CA 91748.

Date Revoked: January 26, 2007.

Reason: Failed to maintain valid bonds.

License Number: 002731NF.

Name: Hemisphere Forwarding, Inc.

Address: 7 Cerro Street, Inwood, NY 11696.

Date Revoked: December 15, 2006.

Reason: Surrendered license voluntarily.

License Number: 019783N.

Name: Integrated Creative Resources Initiatives Corporation dba Inquirer Golden Bells Cargo.

Address: 500 E. Carson Street, Suite 209, Carson, CA 90745.

Date Revoked: December 4, 2006.

Reason: Failed to maintain a valid bond.

License Number : 002336F.

Name: Inter-Commerce Enterprises, Inc.

Address: 5600 Northwest Central, Ste. 104, Houston, TX 77092.

Date Revoked: December 11, 2006.

Reason: Failed to maintain a valid bond.

License Number: 019642N.

Name: JKC International Inc. dba JKC Logistics Inc.

Address: 1972 W. Holt Avenue, Pomona, CA 91768.

Date Revoked: December 7, 2006.

Reason: Failed to maintain a valid bond.

License Number: 001875F.

Name: L.M. Lewis Company.

Address: 1357 N. Great Neck Road, Virginia Beach, VA 23454.

Date Revoked: December 12, 2006.

Reason: Failed to maintain a valid bond.

License Number: 017496NF.

Name: Load Group International, Inc. dba Bosmas.

Address: 8378 NW 68th Street, Miami, FL 33166.

Date Revoked: December 13, 2006.

Reason: Failed to maintain valid bonds.

License Number: 019702NF

Name: Logimex Solutions International, LLC dba Logistar Express.

Address: 7985 NW 198th Terrace, Miami, FL 33015.

Date Revoked: December 17, 2006.

Reason: Failed to maintain valid bonds.

License Number: 019222N.

Name: Longyun Worldwide Forwarding Co. Ltd.

Address: No. 66, Weixing Xincun, Loagang Town, Nanhui District, Shanghai 201302 China.

Date Revoked: January 10, 2007.

Reason: Failed to maintain a valid bond.

License Number: 016501N.

Name: Maxx Express, Inc. dba Accord Logistics Korea-America.

Address: 2726 Fruitland Avenue, Vernon, CA 90058.

Date Revoked: January 10, 2007.

Reason: Failed to maintain a valid bond.

License Number: 003309F.

Name: Nelson International Inc.

Address: 6310 E. Virginia Beach Blvd., Norfolk, VA 23502.

Date Revoked: December 12, 2006.

Reason: Failed to maintain a valid bond.

License Number: 002929F.

Name: Reynhold Wilhelm Hilzinger dba Concorde International Freight Forwarding Co.

Address: 6100 N. Shepherd Drive, Houston, TX 77091.

Date Revoked: December 11, 2006.

Reason: Failed to maintain a valid bond.

License Number: 019170N.

Name: Seabound Freight, LLC.

Address: 12972 SW 133rd Court, Suite A, Miami, FL 33182.

Date Revoked: December 13, 2006.

Reason: Failed to maintain a valid bond.

License Number: 018764N.

Name: Seahawk Logistics, Inc.

Address: 520 Carson Plaza Court, Suite 110, Carson, CA 90746

Date Revoked: January 27, 2007.

Reason: Failed to maintain a valid bond.

License Number: 001774F.

Name: Tierra Mar Aire Packaging and Shipping, Inc. dba TMA PKG & Shipping Inc.

Address: 5217 69th Street, Maspeth, NY 11378.

Date Revoked: December 12, 2006.

Reason: Failed to maintain a valid bond.

License Number: 006861N.

Name: Transconex Incorporated dba Caribe Best Services.

Address: 450 Shattuck Avenue South, Suite 401, Renton, WA 98055.

Dated Revoked: January 25, 2007.

Reason: Failed to maintain a valid bond.

License Number: 003812F.

Name: Transglobe Express, Inc.

Address: 729 North Route 83, Suite 324, Bensenville, IL 60106.

Date Revoked: January 11, 2007.

Reason: Failed to maintain a valid bond.

License Number: 008260NF.

Name: Worldlink Logistics, Inc. dba APC Logistics.

Address: 2746 Uintah Court, Park City, UT 84060.

Date Revoked: December 15, 2006.

Reason: Failed to maintain valid bonds.

Sandra L. Kusumoto,
Director, Bureau of Certification and Licensing.

[FR Doc. E7-2542 Filed 2-13-07; 8:45 am]

BILLING CODE 6730-01-P